DEPARTMENT OF HEALTH AND HUMAN SERVICES

Administration for Children and Families

Administration on Children, Youth and Families 2005 Head Start Tribally Controlled Land Grant College and University Partnerships; Notice of Correction for the FY 05 Head Start Tribally Controlled Land Grant College and University Partnerships Program Announcement, HHS-2005-ACF-ACYF-YT-0012, CFDA# 93.600

AGENCY: Administration on Children, Youth and Families, Head Start Bureau, ACF, DHHS.

ACTION: Notice of corrections.

SUMMARY: This notice is to inform interested parties of corrections to the Head Start Tribally Controlled Land Grant College and University Partnerships Program Announcement that was published on Wednesday, April 13, 2005. The following corrections should be noted:

(1) Under Priority Areas I, Section VII. Agency Contacts, Program Office Contact, please delete the following name, address, phone number, and e-mail address: Katherine Gray, U.S. Department of Health and Human Services, Administration for Children and Families, ACYF—Head Start Bureau, 330 C Street, SW., Switzer Room 2211, Washington, DC 20447. Phone: 312-353-2260. E-mail: kgray@acf.hhs.gov.

Please replace the deleted name, address, phone number, and e-mail address with the following: Rosalind Dailey, U.S. Department of Health and Human Services, Administration for Children and Families, ACYF—Head Start Bureau, 330 C Street, SW., Switzer Room 2211, Washington, DC 20447. Phone: 202-205-8653. E-mail: rdailey@acf.hhs.gov.

All information in this notice of correction is accurate and replaces information specified in the April 13 notice. Applications are still due by the deadline date that was published in the April 13 notice (May 13 for Letters of Intent or Preapplications and June 13 for Applications).

FOR FURTHER INFORMATION CONTACT: For further information please contact the Administration on Children, Youth and Families, Head Start Bureau at (202) 205-8653 or rdailey@acf.hhs.gov.

Dated: April 14, 2005.
Joan E. Ohl,
Commissioner, Administration on Children, Youth and Families.

[FR Doc. 05-7949 Filed 4-20-05; 8:45 am]

BILLING CODE 4184-01-P